DEPARTMENT OF THE INTERIOR

Bureau of Indian Affairs

[234A2100DD/AAKC001030/A0A501010.999900]

Self-Governance PROGRESS Act Negotiated Rulemaking Committee; Notice of Meeting

AGENCY: Bureau of Indian Affairs, Interior.

ACTION: Notice of public meeting.

SUMMARY: In accordance with the Federal Advisory Committee Act, the Self-Governance PROGRESS Act Negotiated Rulemaking Committee (Committee), will hold the eighth public meeting to negotiate and advise the Secretary of the Interior (Secretary) on a proposed rule to implement the Practical Reforms and Other Goals To Reinforce the Effectiveness of Self-Governance and Self-Determination for Indian Tribes Act of 2019 (PROGRESS Act).

DATES:

• Meeting: The meeting is open to the public and to be held both in-person and virtually on Thursday, April 20, 2023, from 9:00 a.m. to 5:00 p.m. Eastern Standard Time. Please see SUPPLEMENTARY INFORMATION below for details on how to participate.

• Comments: Interested persons are invited to submit comments on or before May 21, 2023. Please see ADDRESSES below for details on how to submit written comments.

ADDRESSES: Send your written comments to the Designated Federal Officer, Vickie Hanvey, by any of the following methods:

• Preferred method: Email to comments@bia.gov with “PROGRESS Act” in subject line.

• Mail, hand-carry or use an overnight courier service to the Designated Federal Officer, Ms. Vickie Hanvey, Office of Self-Governance, Office of the Assistant Secretary—Indian Affairs, 1849 C Street NW, Mail Stop 3624, Washington, DC 20240.

FOR FURTHER INFORMATION CONTACT: Vickie Hanvey, Designated Federal Officer, comments@bia.gov, (918) 931-0745.

SUPPLEMENTARY INFORMATION: This meeting is being held under the authority of the PROGRESS Act (Pub. L. 116-180), the Negotiated Rulemaking Act (5 U.S.C. 561 et seq.), and the Federal Advisory Committee Act (5 U.S.C. Appendix 10). The Committee is to negotiate and reach consensus on recommendations for a proposed rule that will replace the existing regulations at 25 CFR part 1000. The Committee will be charged with developing proposed regulations for the Secretary's implementation of the PROGRESS Act's provisions regarding the Department of the Interior's (DOI) Self-Governance Program. See Public Law 116-180.

The PROGRESS Act amends subchapter I of the Indian Self-Determination and Education Assistance Act (ISDEAA), 25 U.S.C. 5301 et seq., which addresses Indian Self-Determination, and subchapter IV of the ISDEAA, which addresses DOI's Tribal Self-Governance Program. The PROGRESS Act also authorizes the Secretary to adapt negotiated rulemaking procedures to the unique context of self-governance and the government-to-government relationship between the United States and Indian Tribes. The Federal Register notice published on May 18, 2022 (87 FR 30256) discussed the issues to be negotiated and the members of the Committee.

Meeting Agenda/Accessibility: These meetings are open to the public. Detailed information about the Committee, including meeting agendas can be accessed at https://www.bia.gov/service/progress-act. Topics for this meeting will include Committee priority setting, possible subcommittees and assignments, subcommittee reports, negotiated rulemaking process, schedule and agenda setting for future meetings, Committee caucus, and public comment. The Committee meetings will begin at 9:00 a.m. Eastern Standard Time on Thursday, April 20, 2023. Members of the public wishing to attend the meeting should visit https://teams.microsoft.com/l/meetupjoin/19%3ameeting_NmU5MGQ0NDUtZTdkMi00MzExLWIxMmEtMjc4NjE5NzM5NTll%40thread.v2/0?context=%7B%22Tid%22%3A%220693b5ba-4b18-4d7b-9341-f32f400a5494%22%2C%22Oid%22%3A%2213321130-a12b-4290-8bcf-30387057bd7b%22%2C%22IsBroadcastMeeting%22%3Atrue%2C%22role%22%3A%22a%22%7D&btype=a&role=a for virtual access. The public meeting will be held at the Federal Mediation and Conciliation Service located at 250 E St SW, Washington, DC 20219.

Special Accommodations: Please make requests in advance for sign language interpreter services, assistive listening devices, or other reasonable accommodations. We ask that you contact the person listed in the FOR FURTHER INFORMATION CONTACT section of this notice at least seven (7) business days prior to the meeting to give DOI sufficient time to process your request. All reasonable accommodation requests are managed on a case-by-case basis.

Individuals in the United States who are deaf, blind, hard of hearing, or have a speech disability may dial 711 (TTY, TDD, or TeleBraille) to access telecommunications relay services. Individuals outside the United States should use the relay services offered within their country to make international calls to the point-of-contact in the United States.

Public Comments During Meeting: Depending on the number of people who want to comment and the time available, the amount of time for individual oral comments may be limited. Requests to address the Committee during the meeting will be accommodated in the order the requests are received. Individuals who wish to expand upon their oral statements, or those who had wished to speak but could not be accommodated on the agenda, may submit written comments to the Designated Federal Officer up to 30 days following the meeting. Written comments may be sent to Vickie Hanvey listed in the ADDRESSES section above.

Before including your address, phone number, email address, or other personal identifying information in your comment, you should be aware that your entire comment—including your personal identifying information—may be made publicly available at any time. While you can ask us in your comment to withhold your personal identifying information from public review, we cannot guarantee that we will be able to do so.

Authority: 5 U.S.C. 10.

Bryan Newland,
Assistant Secretary—Indian Affairs.

[FR Doc. 2023-06878 Filed 3-31-23; 8:45 am]

BILLING CODE 4337-15-P